DEPARTMENT OF ENERGY

Federal Energy Regulatory Commission

[Project No. 2659-011 Oregon]

PacifiCorp; Notice of Availability of Final Environmental Assessment

December 26, 2001.

In accordance with the National Environmental Policy Act of 1969 and the Federal Energy Regulatory Commission's (Commission) regulations, 18 CFR part 380 (Order No. 486, 52 FR 47897), the Office of Energy Projects has reviewed the application for license for the Powerdale Hydroelectric Project, located on the Hood River in Hood River County, Oregon, and has prepared a Final Environmental Assessment (FEA) for the project. There are no federal lands within the project boundaries although a portion of the project is located in the Columbia River Gorge National Scenic Area.

The FEA contains the staff's analysis of the potential environmental impacts of the project and concludes that licensing the project, with appropriate environmental protective measures, would not constitute a major federal action that would significantly affect the quality of the human environment.

A copy of the FEA is on file with the Commission and is available for public inspection. The FEA may also be viewed on the web at http://www.ferc.gov using the “RIMS” link—select “Docket #” and follow the instructions (call 202-208-2222 for assistance).

For further information, contact Bob Easton at (202) 219-2782.

Linwood A. Watson, Jr.,
Acting Secretary.

[FR Doc. 01-32187 Filed 12-31-01; 8:45 am]

BILLING CODE 6717-01-P